DEPARTMENT OF HOUSING AND URBAN DEVELOPMENT

[Docket No. FR-4820-N-41]

Notice of Proposed Information Collection: Comment Request; Inspection Checklist—Additions/Modifications to Manufactured Homes

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 23, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Vance T. Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 25, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Inspection Checklist—Additions/Modifications to Manufactured Homes.

OMB Control Number, if applicable: 2502-New Collection.

Description of the need for the information and proposed use: Add-ons, alterations, or modifications to a manufactured home may cause the unit to be in noncompliance with Federal manufactured home construction and safety standards. If the add-on, alteration, or modification causes the basic manufactured home to fail to conform to the standards; any sale or offer for sale of the home is prohibited until the home is brought into conformance with the standards. A manufactured home that has had any additions, alterations, or modifications must be subjected to an inspection in order to be considered for FHA mortgage insurance. The inspection will ensure that the manufactured home is in compliance with the construction and safety standards.

Agency form numbers, if applicable: HUD-54875.

Estimation of the total numbers of hours needed to prepare the information collection including number of respondents, frequency of response, and hours of response: The estimated number of respondents is 5,000 generating approximately 5,000 annual responses; the frequency of responses is on occasion; the estimated time needed to prepare the responses is 30 minutes; and the estimated total number of burden hours is 2,500.

Status of the proposed information collection: New Collection.

Authority: The Paperwork Reduction Act of 1995, 44 U.S.C., Chapter 25, as amended.

Dated: October 16, 2003.
Sean G. Cassidy,
General Deputy Assistant Secretary for Housing-Deputy Federal Housing Commissioner.

[FR Doc. 03-26901 Filed 10-23-03; 8:45 am]

BILLING CODE 4210-27-M